DEPARTMENT OF AGRICULTURE

Office of the Secretary

Increase in Fiscal Year 2021 Specialty Sugar Tariff-Rate Quota

AGENCY: Office of the Secretary, U.S. Department of Agriculture (USDA).

ACTION: Notice.

SUMMARY: The Office of the Secretary of the Department of Agriculture (the Secretary) is providing notice of an increase in the fiscal year (FY) 2021 specialty sugar tariff-rate quota (TRQ) of 40,000 metric tons raw value (MTRV).

DATES: This notice is applicable on July 9, 2021.

FOR FURTHER INFORMATION CONTACT: Souleymane Diaby, Multilateral Affairs Division, Trade Policy and Geographic Affairs, Foreign Agricultural Service, U.S. Department of Agriculture, Stop 1070, 1400 Independence Avenue SW, Washington, DC 20250-1070; by telephone (202) 720-2916; or by email Souleymane.Diaby@usda.gov.

SUPPLEMENTARY INFORMATION: On July 9, 2020, USDA announced the establishment of the in-quota quantity of the FY 2021 refined sugar TRQ at 162,000 MTRV for which the sucrose content, by weight in the dry state, must have a polarimeter reading of 99.5 degrees or more (85 FR 41226, July 9, 2020). This amount included the minimum level to which the United States is committed under the WTO Uruguay Round Agreements (22,000 MTRV of which 1,656 MTRV is reserved for specialty sugar) and an additional 140,000 MTRV reserved for specialty sugars. Pursuant to Additional U.S. Note 5 to Chapter 17 of the U.S. Harmonized Tariff Schedule (HTS) and Section 359k of the Agricultural Adjustment Act of 1938, as amended, the Secretary today increased the overall FY 2021 refined sugar TRQ by 40,000 MTRV to 202,000 MTRV. The increased amount is reserved for specialty sugar. Entry of this sugar will be permitted beginning July 21, 2021. The sugar entered under this tariff-rate quota is reserved for organic sugar and other specialty sugars not currently produced commercially in the United States or reasonably available from domestic sources.

Jason Hafemeister,
Acting Deputy Under Secretary, Trade and Foreign Agricultural Affairs.

[FR Doc. 2021-14726 Filed 7-7-21; 4:15 pm]

BILLING CODE 3410-10-P